DEPARTMENT OF TRANSPORTATION

Office of the Secretary

Notice of Funding Opportunity for the Department of Transportation's National Infrastructure Investments (i.e., the Rebuilding American Infrastructure With Sustainability and Equity (RAISE) Grant Program) Under the Consolidated Appropriations Act, 2021

AGENCY: Office of the Secretary of Transportation, DOT.

ACTION: Notice of funding opportunity.

SUMMARY: The purpose of this notice is to solicit applications for Rebuilding American Infrastructure with Sustainability and Equity (RAISE) grants. Funds for the FY 2021 RAISE grant program are to be awarded on a competitive basis for surface transportation infrastructure projects that will have a significant local or regional impact. This program was formerly known as BUILD Transportation Grants

DATES: Applications must be submitted by 5:00 p.m. Eastern on July 12, 2021.

ADDRESSES: Applications must be submitted through Grants.gov.

FOR FURTHER INFORMATION CONTACT: For further information concerning this notice, please contact the RAISE grant program staff via email at RAISEgrants@dot.gov, or call Howard Hill at 202-366-0301. A TDD is available for individuals who are deaf or hard of hearing at 202-366-3993. In addition, DOT will regularly post answers to questions and requests for clarifications as well as information about webinars for further guidance on DOT's website at www.transportation.gov/RAISEgrants.

SUPPLEMENTARY INFORMATION: Each section of this notice contains information and instructions relevant to the application process for these RAISE grants, and all applicants should read this notice in its entirety so that they have the information they need to submit eligible and competitive applications.

Table of Contents

A. Program Description

B. Federal Award Information

C. Eligibility Information

D. Application and Submission Information

E. Application Review Information

F. Federal Award Administration Information

G. Federal Awarding Agency Contacts

H. Other Information

A. Program Description

1. Overview

The Consolidated Appropriations Act, 2021 (Pub. L. 116-260, December 27, 2020) (“FY 2021 Appropriations Act”) appropriated $1 billion to be awarded by the Department of Transportation (“DOT”) for National Infrastructure Investments (now known as Rebuilding American Infrastructure with Sustainability and Equity (RAISE) Grants.) RAISE Grants are for capital investments in surface transportation that will have a significant local or regional impact. In addition to capital awards, DOT will award no more than $30 million for eligible planning, preparation or design of projects eligible for RAISE Grants that do not result in construction with FY2021 RAISE funding, of which at least $10 million will be awarded to projects located in or to directly benefit areas of persistent poverty.

Since this program was created, $8.9 billion has been awarded for capital investments in surface transportation infrastructure over 12 rounds of competitive grants. Throughout the program, these discretionary grant awards have supported projects that have a significant local or regional impact consistent with DOT's strategic infrastructure goal.¹ FY 2021 RAISE grants continue to align with DOT's infrastructure goal by guiding strategic investments that enable more efficient movement of people and goods. The FY 2021 RAISE round also highlights this Administration's priorities to invest in national infrastructure projects that result in good-paying jobs, improve safety, apply transformative technology, and explicitly address climate change and racial equity.

¹ See U.S. Department of Transportation Strategic Plan for FY 2018-2022 (Feb. 2018) at https://www.transportation.gov/dot-strategic-plan.

Section E of this NOFO, which outlines FY 2021 RAISE Grant selection criteria, describes the process for selecting projects that further these goals. Section F.3 describes progress and performance reporting requirements for selected projects, including the relationship between that reporting and the program's selection criteria.

Consistent with DOT's R.O.U.T.E.S. initiative, DOT seeks rural projects that address deteriorating conditions and disproportionately high fatality rates on rural transportation infrastructure. Please visit https://www.transportation.gov/rural to learn more about DOT's efforts to address disparities in rural infrastructure.

2. Additional Information

The RAISE grant program is described in the Federal Assistance Listings under the assistance listing program title “National Infrastructure Investments” and assistance listing number 20.933.

3. Changes From the FY 2020 NOFO

National Infrastructure Investments are now known as Rebuilding American Infrastructure with Sustainability and Equity (RAISE) grants, formerly TIGER and BUILD Transportation Grants. This FY 2021 RAISE Notice updates the FY 2020 RAISE NOFO to reflect this Administration's priorities for creating good-paying jobs, improving safety, applying transformative technology, and explicitly addressing climate change and advancing racial equity. Consistent with the FY 2021 Appropriations Act requirement that the Secretary shall consider and award projects based solely on the selection criteria from the FY 2017 Notice of Funding Opportunity, the seven selection criteria remain the same as FY 2017. The primary selection criteria are safety, environmental sustainability, quality of life, economic competitiveness, and state of good repair. The secondary selection criteria are partnership and innovation. The Department revised the descriptions of the criteria to clarify how they align with long-term project outcomes. A summary of these changes is provided below, but applicants should refer to Section E for descriptions of the selection criteria.

Consistent with the environmental sustainability merit criterion, the Department seeks to fund projects under the RAISE Program that considered climate change and environmental justice in the planning stage and were designed with specific elements to address climate change impacts. Projects that incorporate such planning considerations are expected to better address climate change and advance long-term environmental sustainability. Projects should directly support Climate Action Plans or apply environmental justice screening tools in the planning stage. Projects should include components that reduce emissions, promote energy efficiency, increase resiliency, and recycle or redevelop existing infrastructure. This objective is consistent with Executive Order 14008, Tackling the Climate Crisis at Home and Abroad (86 FR 7619). As part of the Department's implementation of that Executive Order, the Department seeks to fund projects that, to the extent possible, target at least 40% of resources and benefits towards low-income communities, disadvantaged communities, communities underserved by affordable transportation, or overburdened ² communities. Section E describes climate change and environmental justice considerations an applicant can undertake. Projects that have not sufficiently considered climate change and environmental justice in their planning, as determined by the Department, will be required to before receiving funds for construction. See Section F.2 of this NOFO for program requirements.

² Overburdened Community: Minority, low-income, tribal, or indigenous populations or geographic locations in the United States that potentially experience disproportionate environmental harms and risks. This disproportionality can be as a result of greater vulnerability to environmental hazards, lack of opportunity for public participation, or other factors. Increased vulnerability may be attributable to an accumulation of negative or lack of positive environmental, health, economic, or social conditions within these populations or places. The term describes situations where multiple factors, including both environmental and socio-economic stressors, may act cumulatively to affect health and the environment and contribute to persistent environmental health disparities.

Consistent with the quality of life and partnership merit criteria, the Department seeks to use the RAISE program to encourage racial equity in two areas: (1) Incorporating planning and adopting policies related to racial equity and reducing barriers to opportunity; and (2) investing in projects that either proactively address racial equity and barriers to opportunity, including automobile dependence as a form of barrier, or redress prior inequities and barriers to opportunity. This objective supports the Department's strategic goal related to infrastructure, with the potential for significantly enhancing environmental stewardship and community partnerships, and reflects Executive Order 13985, Advancing Racial Equity and Support for Underserved Communities Through the Federal Government (86 FR 7009). Section E describes racial equity considerations that an applicant can undertake to address these criteria. Projects that have not sufficiently considered racial equity in their planning, as determined by the Department, will be required to before receiving funds for construction. See Section F.4 of this NOFO for program requirements.

The FY 2021 Appropriations Act allows for up to $30 million to be awarded for the planning, preparation or design of projects eligible for RAISE Grants, of which at least $10 million will be awarded to projects located in or to directly benefit areas of persistent poverty planning projects. Areas of persistent poverty are defined in Section C.3.iii.

The Department published a FY 2021 RAISE NOFO on January 19, 2021 and withdrew that NOFO on January 22, 2021. This notice supersedes the withdrawn NOFO. Unless repeated here, the content of the withdrawn NOFO is ineffective.

Applicants who are planning to re-apply using materials prepared for prior competitions should ensure that their FY 2021 application fully addresses the criteria and considerations described in this Notice and that all relevant information is up to date.

B. Federal Award Information

1. Amount Available

The FY 2021 Appropriations Act appropriated $1 billion to be awarded by DOT for the RAISE grant program. FY 2021 RAISE grants are for capital investments in surface transportation infrastructure and are to be awarded on a competitive basis for projects that will have a significant local or regional impact. DOT will award no more than $30 million (of the $1 billion) for the planning, preparation or design of eligible projects, of which at least $10 million will be awarded to projects located in or to directly benefit areas of persistent poverty (as defined in Section C.3.iii.). DOT refers to awards for the planning, preparation or design of eligible projects as RAISE planning grants. The FY 2021 Appropriations Act also allows DOT to retain up to $20 million of the $1 billion for award, oversight and administration of grants and credit assistance made under the program. In addition to the FY 2021 RAISE funds, unobligated program funds may be made available from prior rounds and awarded under this solicitation to projects that can be obligated before the obligation deadline associated with the respective prior year funds. The Department expects not more than $30 million of prior year funds may be awarded. If this solicitation does not result in the award and obligation of all available funds, DOT may publish additional solicitations.

The FY 2021 Appropriations Act allows up to 20 percent of available funds (or $200 million) to be used by DOT to pay the subsidy and administrative costs of a project receiving credit assistance under the Transportation Infrastructure Finance and Innovation Act of 1998 (TIFIA) or Railroad Rehabilitation and Improvement Financing (RRIF) programs, if that use of the FY 2021 RAISE funds would further the purposes of the RAISE grant program.

2. Award Size

The FY 2021 Appropriations Act specifies that RAISE grants may not be less than $5 million, except that for projects located in rural areas (as defined in Section C.3.ii) the minimum award size is $1 million. Grants may not be greater than $25 million. There is no minimum award size for RAISE planning grants, regardless of location. Applicants are strongly encouraged to submit applications only for eligible award amounts.

3. Restrictions on Funding

Pursuant to the FY 2021 Appropriations Act, no more than 10 percent of the funds made available for RAISE grants (or $100 million) may be awarded to projects in a single State. The Act also directs that not more than 50 percent of the funds provided for RAISE grants (or $500 million) shall be awarded to rural projects (as defined in section C.3.ii) and directs that not more than 50 percent of the funds provided for RAISE grants (or $500 million) shall be awarded to urban projects (as defined in section C.3.ii). Further, DOT must take measures to ensure an equitable geographic distribution of grant funds, an appropriate balance in addressing the needs of urban and rural areas including in tribal areas, and investment in a variety of transportation modes.

4. Availability of Funds

The FY 2021 Appropriations Act requires that FY 2021 RAISE grants funds are available for obligation only through September 30, 2024. Obligation occurs when a selected applicant and DOT enter into a written grant agreement after the applicant has satisfied applicable administrative requirements, including transportation planning and environmental review requirements. Unless authorized by DOT in writing after DOT's announcement of FY 2021 RAISE awards, any costs incurred prior to DOT's obligation of funds for a project (“pre-award costs”) are ineligible for reimbursement.³ All FY 2021 RAISE funds must be expended (the grant obligation must be liquidated or actually paid out to the grant recipient) by September 30, 2029. After this date, unliquidated funds are no longer available to the project. As part of the review and selection process described in Section E.2., DOT will consider a project's likelihood of being ready to proceed with an obligation of RAISE grant funds within the statutory timeline. No waiver is possible for these deadlines.

³ Pre-award costs are only costs incurred directly pursuant to the negotiation and anticipation of the RAISE award where such costs are necessary for efficient and timely performance of the scope of work, as determined by DOT. Costs incurred under an advance construction (23 U.S.C. 115) authorization before the DOT announces that a project is selected for a FY 2021 RAISE award cannot be charged to FY 2021 RAISE funds. Likewise, costs incurred under an FTA Letter of No Prejudice under Chapter 53 of title 49 U.S.C. before the DOT announces that a project is selected for a FY 2021 RAISE award cannot be charged to FY 2021 RAISE funds.

5. Previous BUILD/TIGER Awards

Recipients of BUILD/TIGER grants may apply for funding to support additional phases of a project previously awarded funds in the BUILD/TIGER program. However, to be competitive, the applicant should demonstrate the extent to which the previously funded project phase has met estimated project schedules and budget, as well as the ability to realize the benefits expected for the project. A previous BUILD/TIGER award, or application, does not affect competitiveness under the FY 2021 RAISE competition.

C. Eligibility Information

To be selected for a RAISE grant, an applicant must be an Eligible Applicant and the project must be an Eligible Project.

1. Eligible Applicants

Eligible Applicants for RAISE grants are State, local, Tribal, and U.S. territories' governments, including transit agencies, port authorities, metropolitan planning organizations (MPOs), and other political subdivisions of State or local governments.

Multiple States or jurisdictions may submit a joint application and should identify a lead applicant as the primary point of contact and also identify the primary recipient of the award. Joint applications should include a description of the roles and responsibilities of each applicant.

DOT expects that the eligible applicant that submits the application will administer and deliver the project. If the applicant seeks a transfer of the award to another agency, a letter of support from the designated entity must be included in the application.

2. Cost Sharing or Matching

Per the FY 2021 Appropriations Act, the Federal share of project costs for which an expenditure is made under the RAISE grant program may not exceed 80 percent for a project located in an urban area.⁴ The Secretary may increase the Federal share of costs above 80 percent for projects located in rural areas and for planning projects located in areas of persistent poverty. Urban area and rural area are defined in Section C.3.ii of this notice. Areas of persistent poverty are defined in Section C.3.iii. DOT shall give priority to projects that require a contribution of Federal funds to complete an overall financing package.

⁴ To meet match requirements, the minimum total project cost for a project located in an urban area must be $6.25 million.

Non-Federal sources include State funds originating from programs funded by State revenue, local funds originating from State or local revenue-funded programs, or private funds. Toll credits under 23 U.S.C. 120(i) are considered a Federal source under the RAISE program and, therefore, cannot be used to satisfy the statutory cost sharing requirement of a RAISE award. Unless otherwise authorized by statute, non-Federal cost-share may not be counted as the non-Federal share for both the RAISE grant and another Federal grant program. DOT will not consider previously incurred costs or previously expended or encumbered funds towards the matching requirement for any project. Matching funds are subject to the same Federal requirements described in Section F.2. as awarded funds. If repaid from non-Federal sources, Federal credit assistance is considered non-Federal share.

See Section D.2.iii for information about documenting cost sharing in the application.

For each project that receives a RAISE grant award, the terms of the award will require the recipient to complete the project using at least the level of non-Federal funding that was specified in the application. If the actual costs of the project are greater than the costs estimated in the application, the recipient will be responsible for increasing the non-Federal contribution. If the actual costs of the project are less than the costs estimated in the application, DOT will generally reduce the Federal contribution.

3. Other

i. Eligible Projects

(a) Capital Projects

Eligible projects for RAISE grants are surface transportation capital projects within the United States or any territory or possession of the United States that include, but are not limited to: (1) Highway, bridge, or other road projects eligible under title 23, United States Code; (2) public transportation projects eligible under chapter 53 of title 49, United States Code; (3) passenger and freight rail transportation projects; (4) port infrastructure investments (including inland port infrastructure and land ports of entry); (5) intermodal projects; and (6) projects investing in surface transportation facilities that are located on Tribal land and for which title or maintenance responsibility is vested in the Federal Government.⁵

⁵ Please note that DOT may award a RAISE grant to pay for the surface transportation components of a broader project that has non-surface transportation components, and applicants are encouraged to apply for RAISE grants to pay for the surface transportation components of these projects.

Other than projects described in this section, improvements to Federally owned facilities are ineligible under the FY 2021 RAISE program. Research, demonstration, or pilot projects are eligible only if they will result in long-term, permanent surface transportation infrastructure that has independent utility as defined in Section C.3.iv.

(b) Planning Projects

Activities eligible for funding under RAISE planning grants are related to the planning, preparation, or design—for example environmental analysis, feasibility studies, and other pre-construction activities—of eligible surface transportation capital projects described in Section C.3.i.(a).

In addition, eligible activities related to multidisciplinary projects or regional planning may include: (1) Development of master plans, comprehensive plans, or corridor plans; (2) Planning activities related to the development of a multimodal freight corridor, including those that seek to reduce conflicts with residential areas and with passenger and non-motorized traffic; (3) Development of port and regional port planning grants, including State-wide or multi-port planning within a single jurisdiction or region; (4) Risk assessments and planning to identify vulnerabilities and address the transportation system's ability to withstand probable occurrence or recurrence of an emergency or major disaster.

ii. Rural/Urban Definition

For purposes of this notice, a project is designated as urban if it is located within (or on the boundary of) a Census-designated urbanized area ⁶ that had a population greater than 200,000 in the 2010 Census.⁷ If a project is located outside a Census-designated urbanized area with a population greater than 200,000, it is designated as a rural project. Rural and urban definitions differ in some other DOT programs, including TIFIA.

⁶ Lists of UAs as defined by the Census Bureau are available on the Census Bureau website at https://www.census.gov/geographies/reference-maps/2010/geo/2010-census-urban-areas.html.

⁷ See www.transportation.gov/RAISEBUILDgrants for a list of UAs.

A project located in both an urban and a rural area will be designated as urban if the majority of the project's costs will be spent in urban areas. Conversely, a project located in both an urban area and a rural area will be designated as rural if the majority of the project's costs will be spent in rural areas. For RAISE planning grants, the location of the project being planned, prepared, or designed will be used for the urban or rural designation.

This definition affects four aspects of the program: (1) Not more than $500 million of the funds provided for RAISE grants are to be used for projects in rural areas; (2) not more than $500 million of the funds provided for RAISE grants are to be used for projects in urban areas; (3) for a project in a rural area the minimum award is $1 million; and (4) the Secretary may increase the Federal share above 80 percent to pay for the costs of a project in a rural area.

iii. Areas of Persistent Poverty

Areas of Persistent Poverty means: (1) Any county that has consistently had greater than or equal to 20 percent of the population living in poverty during the 30-year period preceding December 27, 2020, as measured by the 1990 and 2000 ⁸ decennial census and the most recent annual Small Area Income Poverty Estimates as estimated by the Bureau of the census; ⁹ (2) any census tract with a poverty rate of at least 20 percent as measured by the 2014-2018 5-year data series available from the American Community Survey of the Bureau of the Census; ¹⁰ or (3) any territory or possession of the United States. A county satisfies this definition only if 20 percent of its population was living in poverty in all three of the listed datasets: (a) The 1990 decennial census; (b) the 2000 decennial census; and (c) the 2019 Small Area Income Poverty Estimates. DOT will list all counties and census tracts that meet this definition for Areas of Persistent Poverty on the RAISE website at https://www.transportation.gov/RAISEgrants.

⁸ See https://www.census.gov/data/tables/time-series/dec/census-poverty.html for county dataset.

⁹ See https://www.census.gov/data/datasets/2019/demo/saipe/2019-state-and-county.html for December 2019 Small Area Income Poverty Dataset.

¹⁰ See https://data.census.gov/cedsci/table?q=ACSST1Y2018.S1701&tid=ACSST5Y2018.S1701&hidePreview=false for 2014-2018 five year data series from the American Community Survey.

The FY 2021 definition for Area of Persistent Poverty may differ from other DOT programs, including the FY 2020 FTA Hope Discretionary Grant program.

This definition for Areas of Persistent Poverty affects two aspects of the program: (1) There is no minimum grant size for a planning projects that are located in or are to directly benefit an area of persistent poverty, and (2) the Secretary may increase the Federal share above 80 percent to pay for the costs of a planning project that is located in or is to directly benefit an area of persistent poverty.

The Department will only consider direct benefits to Areas of Persistent Poverty that are clearly and explicitly described in the application narrative. Unless the application addresses the direct benefits to an Areas of Persistent Poverty consistent with the definition in this section, the Department will not assume the project benefits an Area of Persistent Poverty.

iv. Project Components

An application may describe a project that contains more than one component, and may describe components that may be carried out by parties other than the applicant. DOT expects, and will impose requirements on fund recipients to ensure, that all components included in an application will be delivered as part of the RAISE project, regardless of whether a component includes Federal funding. The status of each component should be clearly described (for example, in the project schedule). DOT may award funds for a component, instead of the larger project, if that component (1) independently meets minimum award amounts described in Section B and all eligibility requirements described in Section C; (2) independently aligns well with the selection criteria specified in Section E.1; and (3) meets National Environmental Policy Act (NEPA) requirements with respect to independent utility. Independent utility means that the component will represent a transportation improvement that is usable and represents a reasonable expenditure of DOT funds even if no other improvements are made in the area, and will be ready for intended use upon completion of that component's construction. All project components that are presented together in a single application must demonstrate a relationship or connection between them. (See Section D.2. for Required Approvals).

Applicants should be aware that, depending upon the relationship between project components and applicable Federal law, DOT funding of only some project components may make other project components subject to Federal requirements as described in Section F.2.

DOT strongly encourages applicants to identify in their applications the project components that have independent utility and separately detail costs and requested RAISE grant funding for those components. If the application identifies one or more independent project components, the application should clearly identify how each independent component addresses selection criteria and produces benefits on its own, in addition to describing how the full proposal of which the independent component is a part addresses selection criteria.

v. Application Limit

Each lead applicant may submit no more than three applications. Unrelated project components should not be bundled in a single application for the purpose of adhering to the limit. If a lead applicant submits more than three applications as the lead applicant, only the first three received will be considered.

D. Application and Submission Information

1. Address To Request Application Package

Instructions for submitting applications can be found at www.transportation.gov/RAISEgrants along with specific instructions for the forms and attachments required for submission.

2. Content and Form of Application Submission

The application must include the Standard Form 424 (Application for Federal Assistance), cover page, and the Project Narrative. Applicants are encouraged to also complete SF-424C and attach to their application the “RAISE 2021 Project Information” form available at www.transportation.gov/RAISEgrants.

DOT recommends that the project narrative follow the basic outline below to address the program requirements and assist evaluators in locating relevant information.

I. Project Description | See D.2.i.
II. Project Location | See D.2.ii.
III. Grant Funds, Sources and Uses of all Project Funding | See D.2.iii.
IV. Selection Criteria | See D.2. iv. and E.1.
V. Environmental Risk Review | See D.2. v. and E.1.ii.
VI. Benefit Cost Analysis | See D.2.vi. and E.1. iii..

The project narrative should include the information necessary for DOT to determine that the project satisfies project requirements described in Sections B and C and to assess the selection criteria specified in Section E.1. To the extent practicable, applicants should provide supporting data and documentation in a form that is directly verifiable by DOT. DOT expects applications to be complete upon submission. DOT may ask any applicant to supplement data in its application but is not required to do so. Lack of supporting information provided with the application negatively affects competitiveness of the application, as described in Section E.2.

In addition to a detailed statement of work, detailed project schedule, and detailed project budget, the project narrative should include a table of contents, maps and graphics, as appropriate, to make the information easier to review. DOT recommends that the project narrative be prepared with standard formatting preferences (a single-spaced document, using a standard 12-point font such as Times New Roman, with 1-inch margins). The project narrative may not exceed 30 pages in length, excluding cover pages and table of contents. The only substantive portions that may exceed the 30-page limit are documents supporting assertions or conclusions made in the 30-page project narrative, but evaluators are not required to review supporting documents as part of the merit review described in Section E. If possible, website links to supporting documentation should be provided rather than copies of these supporting materials. If supporting documents are submitted, applicants should clearly reference these in the respective section of the project narrative. DOT recommends using appropriately descriptive file names (e.g., “Project Narrative,” “Maps,” “Memoranda of Understanding and Letters of Support,”) for all attachments. DOT recommends applications include the following sections:

i. Project Description

The first section of the application should provide a description of the project, the transportation challenges that it is intended to address, and how it will address those challenges. This section should discuss the project's history, including a description of any previously completed components. The applicant may use this section to place the project into a broader context of other transportation infrastructure investments being pursued by the project sponsor. Applicants may also include a detailed statement of work that focuses on the technical and engineering aspects of the project and describes in detail the project to be constructed.

ii. Project Location

This section of the application should describe the project location, including a detailed geographical description of the proposed project, a map of the project's location, and description of connections to existing transportation infrastructure. The application should also identify:

(a) Whether the project is located in an Area of Persistent Poverty including the relevant County and/or census tract; and

(b) the Census-designated urbanized area in which the project is located, if relevant.

If the project is not located in an Area of Persistent Poverty but is a project to directly benefit such an area, the application should clearly and explicitly describe those benefits and the affected county or census tract(s). For a project to directly benefit an Area of Persistent Poverty, measurable and non-trivial outcomes, consistent with the selection criteria describe in Section E of this NOFO, must be located in that Area of Persistent Poverty.

iii. Grant Funds, Sources and Uses of Project Funds

This section of the application should describe the budget for the RAISE project (i.e. the project scope that includes RAISE funding). This budget should not include any previously incurred expenses. The budget should show how each source of funds will be spent. The budget should also show how each funding source will share in each major construction activity, and present that data in dollars and percentages. If applicable, the budget should identify Federal funds that have been previously authorized by a Federal agency. Funding sources should be grouped into three categories: non-Federal, RAISE, and other Federal. If the project contains individual components, the budget should separate the costs of each project component. If the project will be completed in phases, the budget should separate the costs of each phase. The budget should clearly identify any expenses expected to be incurred between time of award and obligation because these expenses are not eligible for reimbursement, as described in Section B.4, or for cost sharing, as described in Section C.2. The budget details should sufficiently demonstrate that the project satisfies the statutory cost-sharing requirements described in Section C.2. At a minimum, it should include:

(a) Costs for the FY2021 RAISE project;

(b) For all funds to be used for eligible project costs, the source and amount of those funds;

(c) For non-Federal funds to be used for eligible project costs, documentation of funding commitments. Documentation should also be included as an appendix to the application. If the applicant is not a State DOT and matching contributions from a State DOT are included as non-Federal match, a supporting letter from the State indicating the source of the funds; and

(d) For Federal funds to be used for eligible project costs, the amount, nature, and source of any required non-Federal match for those funds.

In addition to the information enumerated above, this section should provide complete information on how all project funds may be used. For example, if a particular source of funds is available only after a condition is satisfied, the application should identify that condition and describe the applicant's control over whether it is satisfied. Similarly, if a particular source of funds is available for expenditure only during a fixed time period, the application should describe that restriction. Complete information about project funds will ensure that DOT's expectations for award execution align with any funding restrictions unrelated to DOT, even if an award differs from the applicant's request.

iv. Selection Criteria

This section of the application should demonstrate how the project aligns with the criteria described in Section E.1 of this notice. DOT encourages applicants to either address each criterion or expressly state that the project does not address the criterion. Applicants are not required to follow a specific format, but the outline suggested addresses each criterion separately and promotes a clear discussion that assists project evaluators. To minimize redundant information in the application, DOT encourages applicants to cross-reference from this section of their application to relevant substantive information in other sections of the application. The guidance in this section is about how the applicant should organize their application. Guidance describing how DOT will evaluate projects against the Selection Criteria is in Section E.1 of this notice. Applicants also should review that section before considering how to organize their application.

(1) Primary Selection Criteria

(a) Safety

This section of the application should describe the anticipated outcomes of the project that support the Safety criterion (described in Section E.1.i.(a) of this notice). The applicant should include information on, and to the extent possible, quantify, how the project would improve safety outcomes within the project area or wider transportation network, to include how the project will reduce the number, rate, and consequences of transportation-related accidents, serious injuries, and fatalities. The application should provide evidence to support the claimed level of effectiveness of the project in reducing accidents, serious injuries, and/or fatalities. If applicable, the applicant should also include information on how the project will improve safety at highway-rail grade crossings and/or contribute to preventing unintended releases of hazardous materials.

(b) Environmental Sustainability

This section of the application should describe how the project addresses the environmental sustainability criterion (described in Section E.1.i.(b) of this notice). Applicants are encouraged to provide information demonstrating that they have considered climate change and environmental justice in the planning stage, in addition to a description of specific project elements that address climate change impacts. Applicants are encouraged to include information demonstrating how the project will reduce emissions, promote energy efficiency, incorporate electrification or zero emission vehicle infrastructure, increase resiliency, improve stormwater management, and recycle or redevelop existing infrastructure. Additional information for how this criterion will be evaluated is in Section E.1.i. of this notice.

(c) Quality of Life

This section should describe how the project increases or improves transportation choices for individuals, expands access to essential services, improves connectivity for citizens to jobs, health care, and other critical destinations; proactively addresses racial equity and barriers to opportunity; or otherwise addresses the quality of life criterion (described in Section E.1.i.(c) of this notice).

(d) Economic Competitiveness

This section of the application should describe how the project will support the Economic Competitiveness criterion (described in Section E.1.i.(d) of this notice). The applicant should include information about expected impacts of the project on the movement of goods and people, including how the project increases the efficiency of movement and thereby reduces costs of doing business, improves local and regional freight connectivity to the national and global economy, reduces burdens of commuting, and improves overall well-being. Applicants could also describe whether project delivery and implementation provides opportunities for workers to find good-paying jobs directly related to the project, including opportunities through unions, project labor agreements,¹¹, local hiring provisions, or other targeted preferential hiring provisions.¹² The applicant should describe the extent to which the project contributes to the functioning and growth of the economy, including the extent to which the project addresses congestion or freight connectivity, bridges service gaps in rural areas, or promotes the expansion of private economic development.

¹¹ Project labor agreement must be consistent with Executive Order 13502.

¹² Preferential hiring provisions must be authorized and comply with Sec. 199B of the FY2021 Appropriations Act.

(e) State of Good Repair

This section of the application should describe how the project will contribute to a state of good repair by improving the condition or resilience of existing transportation facilities and systems (described in Section E.1.i.(e) of this notice), including the project's current condition, how the proposed project will improve it, and any estimates of impacts on long-term cost structures or overall life-cycle costs.

(2) Secondary Selection Criteria

(a) Partnership

This section of the application should include information to assess the partnership criterion (described in Section E.1.ii.(a) of this notice) including a list of all project parties and details about the proposed grant recipient and other public and private parties who are involved in delivering the project. This section should also describe efforts to collaborate among stakeholders, including with the private sector.

Applications for projects involving other Federal agencies, or requiring action from other Federal agencies, should demonstrate commitment and involvement of those agencies. For example, relevant port projects should demonstrate alignment with U.S. Army Corps of Engineers investment strategies.

(b) Innovation

This section of the application should describe innovative strategies used and the anticipated benefits of using those strategies, including those corresponding to three categories (described in Section E.1.ii.(b) of this notice): (i) Innovative Technologies, (ii) Innovative Project Delivery, or (iii) Innovative Financing.

(i) Innovative Technologies

If an applicant is proposing to adopt innovative technology, the application should demonstrate the applicant's capacity to implement those innovations, the applicant's understanding of applicable Federal requirements and whether the innovations may require extraordinary permitting, approvals, exemptions, waivers, or other procedural actions, and the effects of those innovations on the project delivery timeline.

If an applicant is proposing to deploy autonomous vehicles or other innovative motor vehicle technology, the application should demonstrate that all vehicles will comply with applicable safety requirements, including those administered by the National Highway Traffic Safety Administration (NHTSA) and Federal Motor Carrier Safety Administration (FMCSA). Specifically, the application should show that vehicles acquired for the proposed project will comply with applicable Federal Motor Vehicle Safety Standards (FMVSS) and Federal Motor Carrier Safety Regulations (FMCSR). If the vehicles may not comply, the application should either (1) show that the vehicles and their proposed operations are within the scope of an exemption or waiver that has already been granted by NHTSA, FMCSA, or both agencies or (2) directly address whether the project will require exemptions or waivers from the FMVSS, FMCSR, or any other regulation and, if the project will require exemptions or waivers, present a plan for obtaining them.

(ii) Innovative Project Delivery

If an applicant plans to use innovative approaches to project delivery or is located in a State with NEPA delegation authority, applicants should describe those project delivery methods and how they are expected to improve the efficiency of the project development or expedite project delivery.

(iii) Innovative Financing

If an applicant plans to incorporate innovative funding or financing, the applicant should describe the funding or financing approach, including a description of all activities undertaken to pursue private funding or financing for the project and the outcomes of those activities.

v. Environmental Risk

This section of the application should include sufficient information for DOT to evaluate whether the project is reasonably expected to begin construction in a timely manner. To assist DOT's project environmental risk review, the applicant should provide the information requested on project schedule, required approvals and permits, NEPA, risk and mitigation strategies, each of which is described in greater detail in the following sections. Applicants are not required to follow the specific format described here, but this organization, which addresses each relevant aspect of environmental risk, promotes a clear discussion that assists project evaluators. To minimize redundant information in the application, DOT encourages applicants to cross-reference from this section of their application to relevant substantive information in other sections of the application.

The guidance here is about what information applicants should provide and how the applicant should organize their application. Guidance describing how DOT will evaluate environmental risk is described in Section E.1.ii of this notice. Applicants should review that section when considering how to organize their application.

(a) Project Schedule

The applicant should include a detailed project schedule that identifies all major project milestones. Examples of such milestones include State and local planning approvals (e.g., programming on the Statewide Transportation Improvement Program); start and completion of NEPA and other Federal environmental reviews and approvals including permitting; design completion; right of way acquisition; approval of plans, specifications and estimates; procurement; State and local approvals; project partnership and implementation agreements, including agreements with railroads; and construction. The project schedule should be sufficiently detailed to demonstrate that:

(1.) All necessary activities will be complete to allow RAISE grant funds to be obligated sufficiently in advance of the statutory deadline (June 30, 2024 ¹³), and that any unexpected delays will not put the funds at risk of expiring before they are obligated;

¹³ The statutory obligation deadline is September 30, 2024. The Department assesses risk against an earlier deadline of June 30, 2024 to allow time to complete administrative processing and address challenges before the statutory deadline.

(2.) the project can begin construction upon obligation of grant funds and that those funds will be spent expeditiously once construction starts, with all funds expended by September 30, 2029; and

(3.) all real property and right-of-way acquisition will be completed in a timely manner in accordance with 49 CFR part 24, 23 CFR part 710, and other applicable legal requirements or a statement that no right-of-way acquisition is necessary.

(b) Required Approvals

1. Environmental Permits and Reviews. The application should demonstrate receipt (or reasonably anticipated receipt) of all environmental approvals and permits necessary for the project to proceed to construction on the timeline specified in the project schedule and necessary to meet the statutory obligation deadline, including satisfaction of all Federal, State and local requirements and completion of the NEPA process. Specifically, the application should include:

i. Information about the NEPA status of the project. If the NEPA process is complete, an applicant should indicate the date of completion, and provide a website link or other reference to the final Categorical Exclusion, Finding of No Significant Impact, Record of Decision, and any other NEPA documents prepared. If the NEPA process is underway, but not complete, the application should detail the type of NEPA review underway, where the project is in the process, and indicate the anticipated date of completion of all milestones and of the final NEPA determination. If the last agency action with respect to NEPA documents occurred more than three years before the application date, the applicant should describe why the project has been delayed and include a proposed approach for verifying and, if necessary, updating this material in accordance with applicable NEPA requirements.

ii. Information on reviews, approvals, and permits by other agencies. An application should indicate whether the proposed project requires reviews or approval actions by other agencies,¹⁴ indicate the status of such actions, and provide detailed information about the status of those reviews or approvals and should demonstrate compliance with any other applicable Federal, State or local requirements, and when such approvals are expected. Applicants should provide a website link or other reference to copies of any reviews, approvals, and permits prepared.

¹⁴ Projects that may impact protected resources such as wetlands, species habitat, cultural or historic resources require review and approval by Federal and State agencies with jurisdiction over those resources.

iii. Environmental studies or other documents, preferably through a website link, that describe in detail known project impacts, and possible mitigation for those impacts.

iv. A description of discussions with the appropriate DOT operating administration field or headquarters office regarding the project's compliance with NEPA and other applicable Federal environmental reviews and approvals.

v. A description of public engagement about the project that has occurred, including details on the degree to which public comments and commitments have been integrated into project development and design.

2. State and Local Approvals. The applicant should demonstrate receipt of State and local approvals on which the project depends, such as State and local environmental and planning approvals and Statewide Transportation Improvement Program (STIP) or (Transportation Improvement Program) TIP funding. For projects acquiring State DOT-owned right of way, applicants should demonstrate they have coordinated the project with the State DOT or transportation facility owner. Additional support from relevant State and local officials is not required; however, an applicant should demonstrate that the project has broad public support.

3. Federal Transportation Requirements Affecting State and Local Planning. The planning requirements applicable to the relevant operating administration apply to all RAISE grant projects,¹⁵ including intermodal projects located at airport facilities.¹⁶ Applicants should demonstrate that a project that is required to be included in the relevant State, metropolitan, and local planning documents has been or will be included in such documents. If the project is not included in a relevant planning document at the time the application is submitted, the applicant should submit a statement from the appropriate planning agency that actions are underway to include the project in the relevant planning document. To the extent possible, freight projects should be included in a State Freight Plan and supported by a State Freight Advisory Committee (49 U.S.C. 70201, 70202), if these exist. Applicants should provide links or other documentation supporting this consideration. Because projects have different schedules, the construction start date for each RAISE grant must be specified in the project-specific agreements signed by relevant operating administration and the grant recipients, based on critical path items that applicants identify in the application and will be consistent with relevant State and local plans.

¹⁵ Under 23 U.S.C. 134 and 135, all projects requiring an action by FHWA must be in the applicable plan and programming documents (e.g., metropolitan transportation plan, transportation improvement program (TIP) and statewide transportation improvement program (STIP)). Further, in air quality non-attainment and maintenance areas, all regionally significant projects, regardless of the funding source, must be included in the conforming metropolitan transportation plan and TIP. Inclusion in the STIP is required under certain circumstances. To the extent a project is required to be on a metropolitan transportation plan, TIP, and/or STIP, it will not receive a RAISE grant until it is included in such plans. Plans that do not currently include the awarded RAISE project can be amended by the State and MPO. Projects that are not required to be in long range transportation plans, STIPs, and TIPs will not need to be included in such plans to receive a RAISE grant. Port, freight rail, and intermodal projects are not required to be on the State Rail Plans called for in the Passenger Rail Investment and Improvement Act of 2008, or in a State Freight Plan as described in the FAST Act. However, applicants seeking funding for freight projects are encouraged to demonstrate that they have done sufficient planning to ensure that projects fit into a prioritized list of capital needs and are consistent with long-range goals. Means of demonstrating this consistency would include whether the project is in a TIP or a State Freight Plan that conforms to the requirements 49 U.S.C. 70202 prior to the start of construction. Port planning guidelines are available at StrongPorts.gov.

¹⁶ Projects at grant obligated airports must be compatible with the FAA-approved Airport Layout Plan, as well as aeronautical surfaces associated with the landing and takeoff of aircraft at the airport. Additionally, projects at an airport: Must comply with established Sponsor Grant Assurances, including (but not limited to) requirements for non-exclusive use facilities, consultation with users, consistency with local plans including development of the area surrounding the airport, and consideration of the interest of nearby communities, among others; and must not adversely affect the continued and unhindered access of passengers to the terminal.

(c) Assessment of Project Risks and Mitigation Strategies

Project risks, such as procurement delays, environmental uncertainties, increases in real estate acquisition costs, uncommitted local match, unavailability of vehicles that either comply with Federal Motor Vehicle Safety Standards or are exempt from Federal Motor Vehicle Safety Standards in a manner that allows for their legal acquisition and deployment, unavailability of domestically manufactured equipment, or lack of legislative approval, affect the likelihood of successful project start and completion. The applicant should identify all material risks to the project and the strategies that the lead applicant and any project partners have undertaken or will undertake to mitigate those risks. The applicant should assess the greatest risks to the project and identify how the project parties will mitigate those risks.

If an applicant anticipates pursuing a waiver for relevant domestic preference laws, the applicant should describe steps that have been or will be taken to maximize the use of domestic goods, products, and materials in constructing its project.

To the extent the applicant is unfamiliar with the Federal program, the applicant should contact the appropriate DOT operating administration field or headquarters offices, as found in contact information at www.transportation.gov/RAISEgrants, for information on the pre-requisite steps to obligate Federal funds in order to ensure that their project schedule is reasonable and that there are no risks of delays in satisfying Federal requirements.

RAISE planning grant applicants should describe their capacity to successfully implement the proposed activities in a timely manner.

vi. Benefit Cost Analysis

This section describes the recommended approach for the completion and submission of a benefit-cost analysis (BCA) as an appendix to the Project Narrative. The results of the analysis should be summarized in the Project Narrative directly, as described in Section D.2.

The appendix should provide present value estimates of a project's benefits and costs relative to a no-build baseline. To calculate present values, applicants should apply a real discount rate (i.e., the discount rate net of the inflation rate) of 7 percent per year to the project's streams of benefits and costs. The purpose of the BCA is to enable DOT to evaluate the project's cost-effectiveness by estimating a benefit-cost ratio for the project.

The primary economic benefits from projects eligible for RAISE grants are likely to include savings in travel time costs, vehicle or terminal operating costs, and safety costs for both existing users of the improved facility and new users who may be attracted to it as a result of the project. Reduced damages from vehicle emissions and savings in maintenance costs to public agencies may also be quantified. Applicants may describe other categories of benefits in the BCA that are more difficult to quantify and value in economic terms, such as improving the reliability of travel times or improvements to the existing human and natural environments (such as increased connectivity, improved public health, storm water runoff mitigation, and noise reduction), while also providing numerical estimates of the magnitude and timing of each of these additional impacts wherever possible. Any benefits claimed for the project, both quantified and unquantified, should be clearly tied to the expected outcomes of the project.

The BCA should include the full costs of developing, constructing, operating, and maintaining the proposed project, as well as the expected timing or schedule for costs in each of these categories. The BCA may also consider the present discounted value of any remaining service life of the asset at the end of the analysis period. The costs and benefits that are compared in the BCA should also cover the same project scope.

The BCA should carefully document the assumptions and methodology used to produce the analysis, including a description of the baseline, the sources of data used to project the outcomes of the project, and the values of key input parameters. Applicants should provide all relevant files used for their BCA, including any spreadsheet files and technical memos describing the analysis (whether created in-house or by a contractor). The spreadsheets and technical memos should present the calculations in sufficient detail and transparency to allow the analysis to be reproduced by DOT evaluators. Detailed guidance for estimating some types of quantitative benefits and costs, together with recommended economic values for converting them to dollar terms and discounting to their present values, are available in DOT's guidance for conducting BCAs for projects seeking funding under the RAISE grant program (see www.transportation.gov/RAISEgrants/additional-guidance).

3. Unique Entity Identifier and System for Award Management (SAM)

Each applicant must: (1) Be registered in SAM before submitting its application; (2) provide a valid unique entity identifier in its application; and (3) continue to maintain an active SAM registration with current information at all times during which it has an active Federal award or an application or plan under consideration by a Federal awarding agency. DOT may not make a RAISE grant to an applicant until the applicant has complied with all applicable unique entity identifier and SAM requirements and, if an applicant has not fully complied with the requirements by the time DOT is ready to make a RAISE grant, DOT may determine that the applicant is not qualified to receive a RAISE grant and use that determination as a basis for making a RAISE grant to another applicant.

4. Submission Dates and Times

Applications must be submitted by 5:00 p.m. Eastern on July 12, 2021. To submit an application through Grants.gov, applicants must:

(1) Obtain a Data Universal Numbering System (DUNS) number;

(2) Register with the System for Award Management (SAM) at www.SAM.gov;

(3) Create a Grants.gov username and password; and

(4) The E-Business Point of Contact (POC) at the applicant's organization must respond to the registration email from Grants.gov and login at Grants.gov to authorize the applicant as the Authorized Organization Representative (AOR). Please note that there can be more than one AOR for an organization.

Please note that the Grants.gov registration process usually takes 2-4 weeks to complete and that DOT will not consider late applications that are the result of failure to register or comply with Grants.gov applicant requirements in a timely manner. For information and instruction on each of these processes, please see instructions at http://www.grants.gov/web/grants/applicants/applicant-faqs.html. If applicants experience difficulties at any point during the registration or application process, please call the Grants.gov Customer Service Support Hotline at 1(800) 518-4726, Monday-Friday from 7:00 a.m. to 9:00 p.m. EST.

5. Other Submission Requirements

(a) Submission Location

Applications must be submitted to Grants.gov.

(b) Consideration of Applications

Only applicants who comply with all submission deadlines described in this notice and electronically submit valid applications through Grants.gov will be eligible for award. Applicants are strongly encouraged to make submissions in advance of the deadline.

(c) Late Applications

Applicants experiencing technical issues with Grants.gov that are beyond the applicant's control must contact RAISEgrants@dot.gov prior to the application deadline with the user name of the registrant and details of the technical issue experienced. The applicant must provide:

(1) Details of the technical issue experienced;

(2) Screen capture(s) of the technical issues experienced along with corresponding Grants.gov “Grant tracking number;”

(3) The “Legal Business Name” for the applicant that was provided in the SF-424;

(4) The AOR name submitted in the SF-424;

(5) The DUNS number associated with the application; and

(6) The Grants.gov Help Desk Tracking Number.

To ensure a fair competition of limited discretionary funds, the following conditions are not valid reasons to permit late submissions: (1) Failure to complete the registration process before the deadline; (2) failure to follow Grants.gov instructions on how to register and apply as posted on its website; (3) failure to follow all instructions in this notice of funding opportunity; and (4) technical issues experienced with the applicant's computer or information technology environment. After DOT reviews all information submitted and contact the Grants.gov Help Desk to validate reported technical issues, DOT staff will contact late applicants to approve or deny a request to submit a late application through Grants.gov. If the reported technical issues cannot be validated, late applications will be rejected as untimely.

(d) Compliance with Section 508 of the Rehabilitation Act of 1973

The Department encourages applicants to submit documents that are compliant with Section 508 of the Rehabilitation Act of 1973. Section 508 guidelines are available at https://www.access-board.gov/ict/.

E. Application Review Information

1. Criteria

(a) Capital Projects

This section specifies the criteria that DOT will use to evaluate and award applications for RAISE grants. The criteria incorporate the statutory eligibility requirements for this program, which are specified in this notice as relevant. For each proposed project, DOT will review the potential long-term benefits for the primary and secondary merit criteria described in this section. DOT does not consider any primary merit criterion more important than the others. Applications that do not demonstrate the project will, more likely than not generate benefits in one or more merit criteria for at least the useful life of the project; demonstrate moderate local or regional impact; and contain sufficient information to assess the projects benefits will not proceed in the evaluation process. In evaluating the primary and secondary merit criteria, DOT will review the project's local or regional impact as well as the content and credibility of information used to explain project benefits. As described in section E.2, projects that address primary merit criteria will be more competitive than projects that only address secondary merit criteria.

i. Primary Merit Criteria

(a) Safety

DOT will assess the project's ability to foster a safe transportation system for the movement of goods and people, consistent with the Department's strategic goal to reduce transportation-related fatalities and serious injuries across the transportation system. DOT will consider the project's estimated impacts on the number, rate, and consequences of crashes, fatalities and injuries among transportation users; the degree to which the project addresses vulnerable roadway users, the degree to which the project addresses inequities in crash victims, the extent to which the project improves safety at highway/rail grade crossings; the project's incorporation of roadway design and technology that is proven to improve safety; or the project's contribution to preventing unintended releases of hazardous materials.

(b) Environmental Sustainability

DOT will consider the extent to which the project incorporates considerations of climate change and environmental justice in the planning stage and in project delivery, such as through incorporation of specific design elements that address climate change impacts. DOT will evaluate the degree to which the project is expected to reduce emissions, promote energy efficiency, support fiscally responsible land use and transportation efficient design, incorporates electrification or zero emission vehicle infrastructure, increases resiliency, reduces pollution, and recycles or redevelops brownfield sites, particularly communities that disproportionally experience climate-change-related consequences. DOT will assess whether the project has addressed environmental sustainability, including but not limited to the following examples:

(1) A Local/Regional/State Climate Action Plan which results in lower greenhouse gas emissions has been prepared and the project directly supports that Climate Action Plan;

(2) A Local/Regional/State Equitable Development Plan has been prepared and the project directly supports that Equitable Development Plan;

(3) The project sponsor has used environmental justice tools such as the EJSCREEN to minimize adverse impacts to environmental justice communities (https://ejscreen.epa.gov/mapper/); or

(4) A Local/Regional/State Energy Baseline Study has been prepared and the project directly supports that study;

(5) The project supports a modal shift in freight or passenger movement to reduce emissions, or reduce induced travel demand. The project utilizes demand management strategies to reduce congestion, induced travel demand, and greenhouse gas emissions;

(6) The project incorporates electrification infrastructure, zero-emission vehicle infrastructure, or both;

(7) The project supports the installation of electric vehicle charging stations;

(8) The project promotes energy efficiency;

(9) The project serves the renewable energy supply chain;

(10) The project improves disaster preparedness and resiliency;

(11) The project avoids adverse environmental impacts to air or water quality, wetlands, and endangered species, such as through reduction in Clean Air Act criteria pollutants and greenhouse gases, improved stormwater management, or improved habitat connectivity;

(12) The project repairs existing dilapidated or idle infrastructure that is currently causing environmental harm (e.g. brownfield redevelopment);

(13) The project supports or incorporates the construction of energy- and location-efficient buildings;

(14) The project proposes recycling of materials, use of materials known to reduce or reverse carbon emissions, or both.

(c) Quality of Life

DOT will consider the extent to which the project: (i) Increases transportation choices and equity for individuals; (ii) expands access to essential services for communities across the United States, particularly for underserved or disadvantaged communities; (iii) improves connectivity for citizens to jobs, health care, and other critical destinations, or (iv) proactively addresses racial equity ¹⁷ and barriers to opportunity, through the planning process or through incorporation of design elements. DOT will assess whether the project addresses quality of life, including but not limited to the following examples:

¹⁷ Definitions for “racial equity” and “underserved communities” are found in Executive Order 13985, Advancing Racial Equity and Support for Underserved Communities Through the Federal Government, Sections 2 (a) and (b).

(1) A racial equity impact analysis has been completed for the project;

(2) The project sponsor has adopted an equity and inclusion program/plan or has otherwise instituted equity-focused policies related to project procurement, material sourcing, construction, inspection, hiring, or other activities designed to ensure racial equity in the overall project delivery and implementation.

(3) The project includes physical-barrier-mitigating land bridges, caps, lids, linear parks, and multimodal mobility investments that either redress past barriers to opportunity or that proactively create new connections and opportunities for underserved communities that are underserved by transportation;

(4) The project includes new or improved walking, biking, and rolling access for the disabled, especially access that reverses the disproportional impacts of crashes on people of color, and mitigate neighborhood bifurcation; or

(5) The project includes new or improved freight access to underserved communities to increase access to goods and job opportunities for those underserved communities.

(d) Economic Competitiveness

DOT will assess the degree to which the project will (1) decrease transportation costs and improve access, through reliable and timely access, to employment centers and job opportunities; (2) improve long-term efficiency or reliability, or reduce costs in the movement of workers or goods; (3) offer significant regional and national improvements in economic strength by increasing the economic productivity of land, capital, or labor, and improving the economic strength of regions and cities; (4) result in long-term job creation by supporting good-paying jobs directly related to the project with the choice of a union, and supporting American industry through compliance with domestic preference laws, the use of project labor agreements, local hiring provisions, or other targeted preferential hiring requirements; or (5) help the United States compete in a global economy by encouraging the location of important industries and future innovations and technology in the U.S., and facilitating efficient and reliable freight movement. This criterion is consistent with DOT's strategic objective to promote investments that bring lasting economic benefit to the Nation.

Projects that bridge gaps in service in rural areas and projects that attract private economic development both support local or regional economic competitiveness.

(e) State of Good Repair

ii. Consistent with the Department's strategic objective to maintain and upgrade existing transportation systems, DOT will assess whether and to what extent: (1) The project is consistent with relevant plans to maintaintransportation facilities or systems in a state of good repair and address current and projected vulnerabilities; (2) if left unimproved, the poor condition of the asset will threaten future transportation network efficiency, mobility of goods or accessibility and mobility of people, or economic growth; (3) the project is appropriately capitalized, including whether project sponsor has conducted scenario planning and/or fiscal impact analysis to understand the future impact on public finances; (4) a sustainable source of revenue is available for operations and maintenance of the project and the project will reduce overall life-cycle costs; (5) the project will maintain or improve transportation infrastructure that supports border security functions; and (6) the project includes a plan to maintain the transportation infrastructure in a state of good repair. DOT will prioritize projects that ensure the good condition of transportation infrastructure, including rural transportation infrastructure, that support commerce and economic growth. Secondary Merit Criteria

(a) Partnership

DOT will consider the extent to which projects demonstrate strong collaboration among a broad range of stakeholders. Projects with strong partnership typically involve multiple partners in project development and funding, such as State and local governments, other public entities, and private or nonprofit entities, particularly minority business enterprises. DOT will consider applicants that partner with State, local, or private entities for the completion and operation of transportation infrastructure to have strong partnership. DOT will also assess the extent to which the project application demonstrates collaboration among neighboring or regional jurisdictions to achieve local or regional benefits, especially equity-focused community outreach and public engagement in the project's planning in underserved communities. In the context of public-private partnerships, DOT will assess the extent to which partners are encouraged to ensure long-term asset performance, such as through pay-for-success approaches.

DOT will also consider the extent to which projects include partnerships that bring together diverse transportation agencies or are supported, financially or otherwise, by other stakeholders that are pursuing similar objectives. For example, DOT will consider the extent to which transportation projects are coordinated with economic development, affordable housing projects, water and waste infrastructure, power and electric infrastructure, broadband and land use plans and policies or other public service efforts.

(b) Innovation

Consistent with DOT's objectives to encourage transformative projects that take the lead in deploying innovative technologies and practices that drive outcomes in terms of safety, equity, climate and resilience, and economic strength, DOT will assess the extent to which the applicant uses innovative strategies, including: (1) Innovative technologies, (2) innovative project delivery, or (3) innovative financing.

1. Innovative Technologies

Consistent with overarching goals to support good-paying jobs with the choice of a union, DOT will assess innovative technological approaches to transportation, particularly in relation to automated, connected, and electric vehicles and the detection, mitigation, and documentation of safety risks. When making RAISE grant award decisions, DOT will consider any innovative technological approaches proposed by the applicant, particularly projects which incorporate innovative technological design solutions, enhance the environment for connected, electric, and automated vehicles, or use technology to improve the detection, mitigation, and documentation of safety risks. Innovative technological approaches may include, but are not limited to:

• Conflict detection and mitigation technologies (e.g., intersection alerts and signal prioritization);

• Dynamic signaling, smart traffic signals, or pricing systems to reduce congestion;

• Traveler information systems, to include work zone data exchanges;

• Signage and design features that facilitate autonomous or semi-autonomous vehicle technologies;

• Applications to automatically capture and report safety-related issues (e.g., identifying and documenting near-miss incidents);

• Vehicle-to-Everything V2X Technologies (e.g. technology that facilitates passing of information between a vehicle and any entity that may affect the vehicle);

• Vehicle-to-Infrastructure (V2I) Technologies (e.g., digital, physical, coordination, and other infrastructure technologies and systems that allow vehicles to interact with transportation infrastructure in ways that improve their mutual performance);

• Vehicle-to-Grid Technologies (e.g., technologies and infrastructure that encourage electric vehicle charging, and broader sustainability of the power grid);

• Cybersecurity elements to protect safety-critical systems;

• Broadband deployment and the installation of high-speed networks concurrent with the transportation project construction;

• Technology at land and sea ports of entry that reduces congestion, wait times, and delays, while maintaining or enhancing the integrity of our border;

• Work Zone data exchanges or related data exchanges; or

• Other Intelligent Transportation Systems (ITS) that directly benefit the project's users.

For innovative safety proposals, DOT will evaluate safety benefits that those approaches could produce and the broader applicability of the potential results. DOT will also assess the extent to which the project uses innovative technology that supports surface transportation to significantly enhance the operational performance of the transportation system. Please note that all innovative technology must be in compliance with 2 CFR 200.216.¹⁸

¹⁸ https://ecfr.federalregister.gov/current/title-2/subtitle-A/chapter-II/part-200/subpart-C/section-200.216.

2. Innovative Project Delivery

DOT will consider the extent to which the project utilizes innovative practices in contracting (such as public-private partnerships), congestion management, asset management, or long-term operations and maintenance.

DOT also seeks projects that employ innovative approaches to improve the efficiency and effectiveness of the environmental permitting and review to accelerate project delivery and achieve improved outcomes for communities and the environment. DOT's objective is to achieve timely and consistent environmental review and permit decisions. Accordingly, projects from States with NEPA assignment authority under 23 U.S.C. 327 are considered to use an innovative approach to project delivery. Participation in innovative project delivery approaches will not remove any statutory requirements affecting project delivery.

Infrastructure investment also provides opportunities for workers to find good-paying jobs with the choice to join a union, and supports American industry through the application of domestic preference requirements. Projects that use project labor agreements and deploy local hiring provisions or targeted preferential hiring provisions also contribute to innovative project delivery.

While RAISE grant award recipients are not required to employ innovative approaches, DOT encourages RAISE grant applicants to describe innovative project delivery methods for proposed projects.

3. Innovative Financing

DOT will assess the extent to which the project incorporates innovations in transportation funding and finance through both traditional and innovative means, including by using private sector funding or financing or using congestion pricing or other demand management strategies to address congestion in major urban areas.

iii. Demonstrated Project Readiness

During application evaluation, DOT may consider project readiness to assess the likelihood of a successful project. In that analysis, DOT will consider three evaluation ratings: Environmental Risk, Technical Capacity, and Financial Capacity. Environmental Risk assessment analyzes the project's environmental approvals and likelihood of the necessary approval affecting project obligation. The Technical Capacity will be reviewed for all eligible applications and will assess the applicant's capacity to successfully deliver the project in compliance with applicable Federal requirements based on factors including the recipient's experience working with Federal agencies, previous experience with BUILD or INFRA awards, and the technical experience and resources dedicated to the project. The Financial Capacity assessment reviews the availability of matching funds and whether the applicant presented a complete funding package. Risks do not disqualify projects from award, but competitive applications clearly and directly describe achievable risk mitigation strategies. A project with mitigated risks or with a risk mitigation plan is more competitive than a comparable project with unaddressed risks.

iv. Project Costs and Benefits

DOT may consider the costs and benefits of projects seeking RAISE grant funding. To the extent possible, DOT will rely on quantitative, evidenced-based and data-supported analysis to assess how well a project addresses this criterion, including an assessment of the project's estimated benefit-cost ratio (BCR) based on the applicant-supplied BCA described in Section D.2.vi.

To evaluate the costs and benefits of a proposed project, DOT will assign the project into ranges based on its estimated BCR, and DOT will assign a level of confidence associated with the estimated BCR range. DOT will use these ranges for BCR: Less than 1; 1-1.5; 1.5-3; and greater than 3. The confidence levels are high, medium, and low. Projects for which the BCR is less than 1 will not advance to the Secretary as Highly Rated and will not be selected for an award, unless the project demonstrates clear, unquantified outcomes, as identified by the SRT, consistent with the environmental sustainability and quality of life criteria.

(b) Planning Grants

Planning grant applications will be evaluated against the same criteria as capital grants. The Department will consider how the plan, once implemented, will ultimately further the merit criteria. DOT will not evaluate the benefits and costs (as expressed in a benefit-cost analysis) or environmental risks of projects that do not include construction.

(c) Additional Considerations

The FY 2021 Appropriations Act requires DOT to consider contributions to geographic diversity among recipients, including the need for a balance between the needs of urban and rural areas, including Tribal areas, and investment in a variety of transportation modes when selecting RAISE grant awards.

2. Review and Selection Process

DOT reviews all eligible applications received by the deadline. The RAISE grants review and selection process consists of at least a Technical Review and a Senior Review. In the Merit Review, teams comprising staff from the Office of the Secretary (OST) and operating administrations review all eligible applications and rate projects as Highly Recommended, Recommended, Acceptable, or Unacceptable. For a capital project to receive a Highly Recommended rating, (1) the project must demonstrate that, more likely than not, it will generate long-term benefits in one or more primary merit criteria and does not appear to negatively affect any of the other merit criteria; (2) the project must have a clear, direct, significant, and positive local or regional impact (i.e. the project will, more likely than not, reduce the problem or use the opportunity that project proposes to address); and (3) the application contains sufficient information to assess project benefits and the benefits claimed by the applicant appear reasonable and justifiable. Planning projects will receive the same merit review and rating as capital projects, except that for planning projects the review does not include an assessment of whether the application contains sufficient information to assess project benefits and whether those benefits appear reasonable and justifiable. If the project has not substantively changed from prior submissions to BUILD or other Department programs, staff may rely on previous analysis. The Senior Review Team, which includes senior leadership from OST and the operating administrations, determines which projects to advance to the Secretary as Highly Rated. The FY 2021 Appropriations Act mandated RAISE grant awards by November 22, 2021. The Secretary selects from the Highly Rated projects for final awards. Consistent with past practice, the Department offers debriefs to applicants not selected for award to receive information about the RAISE project's evaluation.

3. Additional Information

Prior to award, each selected applicant will be subject to a risk assessment as required by 2 CFR 200.206. DOT must review and consider any information about the applicant that is in the designated integrity and performance system accessible through SAM (currently the Federal Awardee Performance and Integrity Information System (FAPIIS). An applicant may review information in FAPIIS and comment on any information about itself that a Federal awarding agency previously entered. DOT will consider comments by the applicant, in addition to the other information in FAPIIS, in making a judgment about the applicant's integrity, business ethics, and record of performance under Federal awards when completing the review of risk posed by applicants.

F. Federal Award Administration Information

1. Federal Award Notice

Following the evaluation outlined in Section E, the Secretary will announce awarded projects by posting a list of selected projects at www.transportation.gov/RAISEgrants. Notice of selection is not authorization to begin performance or to incur costs for the proposed project. Following that announcement, the relevant operating administration will contact the point of contact listed in the SF 424 to initiate negotiation of the grant agreement for authorization.

Recipients of RAISE Grant awards will not receive lump-sum cash disbursements at the time of award announcement or obligation of funds. Instead, RAISE funds will reimburse recipients only after a grant agreement has been executed, allowable expenses are incurred, and valid requests for reimbursement are submitted.

Unless authorized by DOT in writing after DOT's announcement of FY 2021 RAISE awards, any costs that a recipient incurs before DOT executes a grant agreement for that recipient's project are ineligible for reimbursement, and are ineligible match for cost share requirements.

2. Administrative and National Policy Requirements

(a) Administrative Requirements

Please visit https://www.transportation.gov/policy-initiatives/build/grant-agreements for the General Terms and Conditions for BUILD 2020 awards. The RAISE 2021 Terms and Conditions will be similar to the BUILD 2020 Terms and Conditions, but may include relevant updates.

All awards will be administered pursuant to the Uniform Administrative Requirements, Cost Principles and Audit Requirements for Federal Awards found in 2 C.F.R part 200, as adopted by DOT at 2 C.F.R part 1201. Federal wage rate requirements included in subchapter IV of chapter 31 of title 40, U.S.C., apply to all projects receiving funds under this program, and apply to all parts of the project, whether funded with RAISE Grant funds, other Federal funds, or non-Federal funds.

In connection with any program or activity conducted with or benefiting from funds awarded under this notice, recipients of funds must comply with all applicable requirements of Federal law, including, without limitation, the Constitution of the United States; the conditions of performance, non-discrimination requirements, and other assurances made applicable to the award of funds in accordance with regulations of the Department of Transportation; and applicable Federal financial assistance and contracting principles promulgated by the Office of Management and Budget. In complying with these requirements, recipients, in particular, must ensure that no concession agreements are denied or other contracting decisions made on the basis of speech or other activities protected by the First Amendment. If DOT determines that a recipient has failed to comply with applicable Federal requirements, DOT may terminate the award of funds and disallow previously incurred costs, requiring the recipient to reimburse any expended award funds.

Additionally, applicable Federal laws, rules and regulations of the relevant operating administration administering the project will apply to the projects that receive RAISE grant awards, including planning requirements, Service Outcome Agreements, Stakeholder Agreements, Buy America compliance, and other requirements under DOT's other highway, transit, rail, and port grant programs. For projects that are eligible under RAISE but are not eligible under DOT's other programs or projects that are eligible under multiple DOT programs, the RAISE program will determine the appropriate requirements to ensure the project is delivered consistent with program and Department goals. In particular, Executive Order 14005 directs the Executive Branch Departments and agencies to maximize the use of goods, products, and materials produced in, and services offered in, the United States through the terms and conditions of Federal financial assistance awards. If selected for an award, grant recipients must be prepared to demonstrate how they will maximize the use of domestic goods, products, and materials in constructing their project. RAISE grant projects involving vehicle acquisition must involve only vehicles that comply with applicable Federal Motor Vehicle Safety Standards and Federal Motor Carriers Safety Regulations, or vehicles that are exempt from Federal Motor Vehicle Safety Standards or Federal Motor Carrier Safety Regulations in a manner that allows for the legal acquisition and deployment of the vehicle or vehicles.

For projects administered by FHWA, applicable Federal laws, rules, and regulations set forth in Title 23 U.S.C. and Title 23 CFR apply, including the 23 U.S.C. 129 restrictions on the use of toll revenues, and Section 4(f) preservation of parklands and historic properties requirements under 23 U.S.C. 138. For an illustrative list of the other applicable laws, rules, regulations, executive orders, polices, guidelines, and requirements as they relate to a RAISE grant project administered by the FHWA, please see https://ops.fhwa.dot.gov/Freight/infrastructure/tiger/#build18.

For RAISE projects administered by the Federal Transit Administration and partially funded with Federal transit assistance, all relevant requirements under chapter 53 of title 49 U.S.C. apply. For transit projects funded exclusively with RAISE grant funds, some requirements of chapter 53 of title 49 U.S.C. and chapter VI of title 49 CFR apply.

For projects administered by the Federal Railroad Administration, FRA requirements described in 49 U.S.C. Subtitle V, Part C apply.

(b) Program Requirements

i. Climate Change and Environmental Justice Impact Consideration

Each applicant selected for RAISE grant funding must demonstrate effort to consider climate change and environmental justice impacts as described in Section A. Projects that have not sufficiently considered climate change and environmental justice in their planning, as determined by the Department, will be required to do so before receiving funds for construction, consistent with Executive Order 14008, Tackling the Climate Crisis at Home and Abroad (86 FR 7619).

a. Racial Equity and Barriers to Opportunity

Each applicant selected for RAISE grant funding must demonstrate effort to improve racial equity and reduce barriers to opportunity as described in Section A. Projects that have not sufficiently considered climate change and environmental justice in their planning, as determined by the Department, will be required to do before receiving funds for construction, consistent with Executive Order 13985, Advancing Racial Equity and Support for Underserved Communities Through the Federal Government (86 FR 7009).

3. Reporting

(a) Progress Reporting on Grant Activities

Each applicant selected for RAISE grant funding must submit quarterly progress reports and Federal Financial Reports (SF-425) to monitor project progress and ensure accountability and financial transparency in the RAISE grant program.

(b) System Performance Reporting

Each applicant selected for RAISE grant funding must collect and report to the DOT information on the project's performance based on performance indicators DOT identifies related to program goals (e.g travel time savings, greenhouse gas emissions, passenger counts, level of service, etc). Performance indicators should include measurable goals or targets that DOT will use internally to determine whether the project meets program goals, and grant funds achieve the intended long-term outcomes of the RAISE Grant Program. To the extent possible, performance indicators used in the reporting should align with the measures included in the application and should relate to at least one of the selection criteria defined in Section E.1. Performance reporting continues for several years after project construction is completed, and DOT does not provide RAISE grant funding specifically for performance reporting.

(c) Reporting of Matters Related to Recipient Integrity and Performance

If the total value of a selected applicant's currently active grants, cooperative agreements, and procurement contracts from all Federal awarding agencies exceeds $10,000,000 for any period of time during the period of performance of this Federal award, then the applicant during that period of time must maintain the currency of information reported to the SAM that is made available in the designated integrity and performance system (currently FAPIIS) about civil, criminal, or administrative proceedings described in paragraph 2 of this award term and condition. This is a statutory requirement under section 872 of Public Law 110-417, as amended (41 U.S.C. 2313). As required by section 3010 of Public Law 111-212, all information posted in the designated integrity and performance system on or after April 15, 2011, except past performance reviews required for Federal procurement contracts, will be publicly available.

G. Federal Awarding Agency Contacts

For further information concerning this notice please contact the RAISE grant program staff via email at RAISEgrants@dot.gov, or call Howard Hill at 202-366-0301. A TDD is available for individuals who are deaf or hard of hearing at 202-366-3993. In addition, DOT will post answers to questions and requests for clarifications on DOT's website at www.transportation.gov/RAISEgrants. To ensure applicants receive accurate information about eligibility or the program, the applicant is encouraged to contact DOT directly, rather than through intermediaries or third parties, with questions. DOT staff may also conduct briefings on the RAISE grant selection and award process upon request.

H. Other Information

1. Protection of Confidential Business Information

All information submitted as part of or in support of any application shall use publicly available data or data that can be made public and methodologies that are accepted by industry practice and standards, to the extent possible. If the applicant submits information that the applicant considers to be a trade secret or confidential commercial or financial information, the applicant must provide that information in a separate document, which the applicant may cross-reference from the application narrative or other portions of the application. For the separate document containing confidential information, the applicant must do the following: (1) State on the cover of that document that it “Contains Confidential Business Information (CBI)”; (2) mark each page that contains confidential information with “CBI”; (3) highlight or otherwise denote the confidential content on each page; and (4) at the end of the document, explain how disclosure of the confidential information would cause substantial competitive harm. DOT will protect confidential information complying with these requirements to the extent required under applicable law. If DOT receives a Freedom of Information Act (FOIA) request for the information that the applicant has marked in accordance with this section, DOT will follow the procedures described in its FOIA regulations at 49 CFR 7.29. Only information that is in the separate document, marked in accordance with this section, and ultimately determined to be confidential under § 7.29 will be exempt from disclosure under FOIA.

2. Publication/Sharing of Application Information

Following the completion of the selection process and announcement of awards, DOT intends to publish a list of all applications received along with the names of the applicant organizations and funding amounts requested. Except for the information properly marked as described in Section H.1., DOT may make application narratives publicly available or share application information within DOT or with other Federal agencies if DOT determines that sharing is relevant to the respective program's objectives.

3. Department Feedback on Previous Applications

DOT strives to provide as much information as possible to assist applicants with the application process. DOT will not review applications in advance, but DOT staff are available for technical questions and assistance. To efficiently use Department resources, DOT will prioritize interactions with applicants who have not already received a debrief on their FY 2020 RAISE grant application. Program staff will address questions received at RAISEgrants@dot.gov throughout the application period. DOT staff will make reasonable efforts to schedule meetings on projects through May 15, 2021. After that date, DOT staff will schedule meetings only to the extent possible and consistent with timely completion of other activities.

Issued in Washington, DC, on April 16, 2021.
Peter Paul Montgomery Buttigieg,
Secretary of Transportation.

[FR Doc. 2021-08517 Filed 4-22-21; 8:45 am]

BILLING CODE 4910-9X-P